DEPARTMENT OF TRANSPORTATION

Federal Transit Administration

FTA Supplemental Fiscal Year 2008 Apportionments and Allocations and Program Information (Bus and Bus Facilities Program and Alternative Analysis Program Earmarks Designated in the Committee Reports Accompanying the Consolidated Appropriations Act, 2008, Extended and Reprogrammed Earmarks and Corrections to Appendix A)

AGENCY: Federal Transit Administration (FTA), DOT.

ACTION: Notice.

SUMMARY: Division K of the “Consolidated Appropriations Act, 2008” (Pub. L. 110-161), signed into law by President Bush on December 26, 2007, made funds available for all of the surface transportation programs of the Department of Transportation (DOT) for the Fiscal Year (FY) ending September 30, 2008. This notice provides information on the FY 2008 earmarks in the Bus and Bus Facilities program and the Alternatives Analysis program that were in the committee reports that accompanied the Consolidated Appropriations Act, 2008 and corrects Appendix A of the January 28, 2008, Federal Register notice. The notice also publishes prior year Bus and Bus Facilities and New Starts earmarks that were extended or reprogrammed in the committee reports.

FOR FURTHER INFORMATION CONTACT: For general information about this notice contact Henrika Buchanan-Smith, Office of Transit Programs, at (202) 366-2053. Please contact the appropriate FTA regional office for any specific requests for information or technical assistance. Appendix A at the end of this notice includes contact information for FTA regional offices.

SUPPLEMENTARY INFORMATION:

Table of Contents

I. Overview

II. FTA Programs

A. Capital Investment Program (49 U.S.C. 5309)—Bus and Bus-Related Facilities

B. Capital Investment Program (49 U.S.C. 5309)—New Starts

C. Alternatives Analysis Program (49 U.S.C. 5339)

Tables

11A. FTA FY 2008 Section 5309 Bus and Bus-related Allocations

12A. FTA Prior Year Unobligated Section 5309 Bus and Bus-related Facilities Allocations

14. Revised FTA Prior Year Unobligated Section 5309 New Starts Allocations

22. FTA FY 2008 Section 5339 Alternative Analysis Allocations

Appendix A

I. Overview

This document allocates the FY 2008 funds designated for specific projects under the committee reports accompanying Division K of the Consolidated Appropriations Act, 2008 (Pub. L. 110-161, December 26, 2007), for the Bus and Bus Facilities program and the Alternatives Analysis Program. It also includes extended or redirected project funds identified in those reports, but it does not include extended or redirected project funds from the most recent congressional clarification letter dated December 19, 2007. FTA will issue directions regarding those projects not included at a later date.

II. FTA Programs

This section of the notice covers FY 2008 funding that was allocated to projects under the Bus and Bus Facilities program and the Alternatives Analysis Program in the committee reports accompanying the Consolidated Appropriations Act. It also includes New Starts and Bus and Bus Facilities projects that were extended or reprogrammed in the committee reports.

A. Capital Investment Program (49 U.S.C. 5309)—Bus and Bus-Related Facilities

This program provides capital assistance for new and replacement buses and related facilities. Funds are allocated on a discretionary basis. Eligible purposes are acquisition of buses for fleet and service expansion, bus maintenance and administrative facilities, transfer facilities, bus malls, transportation centers, intermodal terminals, park-and-ride stations, acquisition of replacement vehicles, bus rebuilds, bus preventive maintenance, passenger amenities such as passenger shelters and bus stop signs, accessory and miscellaneous equipment such as mobile radio units, supervisory vehicles, fare boxes, computers, and shop and garage equipment. Eligible applicants are State and local governmental authorities. Eligible subrecipients include other public agencies, private companies engaged in public transportation and private non-profit organizations.

The information in this section supplements the information that was included in the FTA Apportionment notice published in the Federal Register on January 28, 2008.

For more information about Bus and Bus-Related Facilities contact Maria Wright, Office of Transit Programs, at (202) 366-2053.

1. FY 2008 Funding Availability

The Consolidated Appropriations Act, 2008, provides $823,052,962 for the bus and bus facilities program. The amount of funding for projects designated in Section 3044 of the Safe, Accountable, Flexible, Efficient Transportation Equity Act: A Legacy For Users (SAFETEA-LU) for Bus and Bus-Related Facilities in FY 2008 is $497,670,593. The amount of funding for projects designated in the Consolidated Appropriations Act, 2008, is $220,599,862. The balance remains unallocated, as shown in the following table. The Consolidated Appropriations Act, 2008, included the proviso, “that funds available to carry out the bus program under section 5309 of title 49, United States Code, which are otherwise allocated under this act or under SAFETEA-LU, not more than 10 percent may be expended in furtherance of the Department of Transportation's Congestion Initiative or any other new highway congestion initiative.”

Bus and Bus Facility Program
Total Appropriation | $927,750,000
Ob lim. Reduction/Rescission | −104,697,038
Oversight Deduction | −8,230,530
Total Available for Allocation | 814,822,432
SAFETEA-LU Statutory Provisions Projects | 497,670,593
Consolidated Appropriations Act Designations | 220,599,862
Unallocated | 96,551,977

The Consolidated Appropriations Act, 2008, allocations for the Bus and Bus-Related Facilities program are listed in Table 11A. The prior years' earmarks that were extended or reprogrammed in the committee reports are listed in Table 12A.

2. Basis for Allocations

Funds are provided annually under Section 5309 for discretionary allocation for bus and bus facilities projects. There were 313 projects designated in the committee reports accompanying the Consolidated Appropriations Act, 2008, and 32 that were extended or reprogrammed by the Act.

3. Requirements

FTA honors Congressional earmarks for the purpose designated or for purposes eligible under the program. The Consolidated Appropriations Act, 2008, did not include the expanded eligibility of a “notwithstanding” provision. However, section 186 of that Act, in relevant part, states that funds provided within FTA's accounts shall be made available for eligible programs, projects and activities at a level of 98 percent of the corresponding amounts identified in the explanatory statement accompanying the Act for Alternatives Analysis and Bus and Bus Facilities. Therefore, if an applicant wants to use FY 2008 funds identified under the Bus and Bus-Related Facilities Program for eligible project activities outside the scope of the project description included in report language, it must submit a request for a legislative change to the House and Senate Committees on Appropriations.

Also, grants made under the Bus and Bus-Related Facilities program must meet all eligibility requirements as outlined in Section 5309 unless otherwise specified in law.

4. Period of Availability

The FY 2008 Bus and Bus-Related Facilities funds not obligated for their original purpose as of September 30, 2010, may be made available for other projects under 49 U.S.C. 5309. Projects that were reprogrammed in the committee reports are available until September 30, 2010; however, projects that were extended in the committee reports are only available until September 30, 2008.

B. Capital Investment Program (49 U.S.C. 5309)—New Starts

The information in this section supplements the information that was included in the FTA Apportionment notice published in the Federal Register on January 28, 2008, and includes earmarks extended in report language. For more information contact Cheryl Oliver, Office of Program Management, at (202) 366-2053.

1. FY 2008 Funding Availability

The Consolidated Appropriations Act, 2008, provides $1,569,091,997 for Capital Investment Grants. The total amount allocated for New Starts including Small Starts is $1,534,492,165, as shown in the table below.

New Starts
Total Appropriation | $1,569,091,997
Oversight Deduction | 15,690,920
Total Funds to be Allocated | 1,553,401,077
Funds Allocated to Specific Projects in Table 13 | ᵃ 1,534,492,165
Unallocated Funds | 18,908,912
ᵃ Includes $20 million for the Denali Commission and Alaska and Hawaii Ferry projects.

FY 2008 New Start project allocations are listed in Table 13 of the Federal Register published on January 28, 2008. The revised carryover project allocations are listed in Revised Table 14 of this notice.

2. Basis for Allocation

Congress included authorizations for specific New Starts projects in SAFETEA-LU and included statutory takedowns from the program for Alaska and Hawaii Ferryboats and the Denali Commission. The Consolidated Appropriations Act, 2008, appropriated funds for specific projects and the statutory takedowns. Congress also extended several New Starts earmarks in the committee reports that accompanied the Consolidated Appropriations Act, 2008. The carryover New Starts funding is shown in Revised Table 14.

3. Requirements

New Starts projects are subject to a series of approvals related to planning and project development set forth in 49 CFR Part 611. FTA has published a number of rulemakings and interim guidance documents related to the New Starts program since the passage of SAFETEA-LU. Grantees should reference the FTA Web site at www.fta.dot.gov for the most current program guidance about project development and management.

4. Period of Availability

New Starts funds remain available for three fiscal years (including the fiscal year the funds are made available or appropriated plus two additional years.) FY 2008 funds remain available through September 30, 2010. Funds extended by Congress in the report accompanying the Consolidated Appropriations Act, 2008, remain available until September 30, 2008.

5. Other Program or Apportionment Related Information and Highlights

Prior year unobligated allocations for New Starts in the amount of $361,829,170 remain available for obligation in FY 2008. This amount includes $164,608,910 in FY 2005 and prior years, $126,973,589 in FY 2006 and $70,246,671 in FY 2007 unobligated allocations. These unobligated amounts are displayed in Revised Table 14.

C. Alternatives Analysis Program (49 U.S.C. 5339)

The Alternatives Analysis Program provides grants to States, authorities of the States, metropolitan planning organizations, and local government authorities to develop studies as part of the transportation planning process. These studies include an assessment of a wide range of public transportation alternatives designed to address a transportation problem in a corridor or subarea; the development of sufficient information to enable the Secretary to make the findings of project justification and local financial commitment required; the selection of a locally preferred alternative; and the adoption of the locally preferred alternative as part of the state or regional long-range transportation plan.

The information in this section supplements the information that was included in the FTA Apportionment notice published in the Federal Register on January 28, 2008. For more information about this program contact Ron Fisher, Office of Planning and Environment, at (202) 366-4033.

1. FY 2008 Funding Availability

The Consolidated Appropriations Act, 2008, provides $24,691,100 to the Alternatives Analysis Program (49 U.S.C. 5339).

Alternatives Analysis Program
Total Appropriation | $25,000,000
Ob lim. Reduction/Rescission | −308,900
Total Available | 24,691,100

The project allocations are listed in Table 22.

2. Basis for Allocation of Funds

The Consolidated Appropriations Act, 2008, provided an obligation limitation of $24,691,100 derived from reducing the appropriated $25,000,000 by two percent. Projects funded using FY 2008 Alternative Analysis funding were designated in the committee reports that accompanied the Act. Alternative Analysis Program allocations are displayed in Table 22.

3. Requirements

Section 186 of Consolidated Appropriations Act, in relevant part, states that funds provided within FTA's accounts shall be made available for eligible programs, projects and activities at a level of 98 percent of the corresponding amounts identified in the explanatory statement accompanying the Act for Alternatives Analysis and Bus and Bus Facilities. Eligible projects include planning and corridor studies and the adoption of locally preferred alternatives within the fiscally constrained Metropolitan Transportation Plan for that area. Funds awarded under the Alternatives Analysis Program must be shown in the UPWP for MPO(s) with responsibility for that area. Pre-award authority applies to these funds after Congress appropriates funds for these projects. Unless otherwise specified in law, grants made under the Alternatives Analysis Program must meet all eligibility requirements as outlined in Section 5309. If an applicant wants to use FY 2008 funds identified under Alternatives Analysis for eligible project activities outside the scope of the project description included in report language, it must submit a request for a legislative change to the House and Senate Committees on Appropriations.

4. Period of Availability

Funds designated for specific Alternatives Analysis Program projects remain available for obligation for three fiscal years, the year of appropriation plus two additional fiscal years. The FY 2008 funding for projects included in this notice remains available through September 30, 2010. Alternatives Analysis funds not obligated in an FTA grant for their original purpose at the end of the period of availability will generally be made available for other projects.

James S. Simpson
Administrator.

Appendix A

PTA Regional Offices
Richard H. Doyle, Regional Administrator, Region 1—Boston, Kendall Square, 55 Broadway, Suite 920, Cambridge, MA 02142-1093, Tel. 617 494-2055 | Robert C. Patrick, Regional Administrator, Region 6—Ft. Worth, 819 Taylor Street, Room 8A36, Ft. Worth, TX 76102, Tel. 817 978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415, Tel. No. 212 668-2170 | Mokhtee Ahmad, Regional Administrator, Region 7— Kansas City, MO, 901 Locust Street, Room 404, Kansas City, MO 64106, Tel. 816 329-3920.
States served: New Jersey, New York | States served: Iowa, Kansas, Missouri, and Nebraska.
Letitia Thompson, Regional Administrator, Region 3—Philadelphia, 1760 Market Street, Suite 500, Philadelphia, PA 19103-4124, Tel. 215 656-7100 | Terry Rosapep, Regional Administrator, Region 8—Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Yvette Taylor, Regional Administrator, Region 4—Atlanta, 230 Peachtree Street, NW, Suite 800, Atlanta, GA 30303, Tel. 404 865-5600 | Leslie T. Rogers, Regional Administrator, Region 9—San Francisco, 201 Mission Street, Room 1650, San Francisco, CA 94105-1926, Tel. 415 744-3133.
States served: Alabama, Florida, Georgia, Kentucky, Mississippi, North Carolina, Puerto Rico, South Carolina, Tennessee, and Virgin Islands | States served: American Samoa, Arizona, California, Guam Hawaii, Nevada, and the Northern Mariana, Islands
Marisol Simon, Regional Administrator, Region 5—Chicago, 200 West Adams Street, Suite 320, Chicago, IL 60606, Tel. 312 353-2789 | Rick Krochalis, Regional Administrator, Region 10—Seattle, Jackson Federal Building, 915 Second Avenue, Suite 3142, Seattle, WA 98174-1002, Tel. 206 220-7954.
States served: Illinois, Indiana, Michigan, Minnesota, Ohio, and Wisconsin | States served: Alaska, Idaho, Oregon, and Washington

BILLING CODE 4910-57-P

[FR Doc. 08-593 Filed 2-8-08; 8:45 am]

BILLING CODE 4910-57-C